DEPARTMENT OF THE INTERIOR

Fish and Wildlife Service

Pelican Island National Wildlife Refuge

AGENCY: Fish and Wildlife Service, Interior.

ACTION: Notice of availability of the Final Comprehensive Conservation Plan and Finding of No Significant Impact for Pelican Island National Wildlife Refuge in Indian River County, Florida.

SUMMARY: The Fish and Wildlife Service announces that a Final Comprehensive Conservation Plan and Finding of No Significant Impact for Pelican Island National Wildlife Refuge are available for distribution. The plan was prepared pursuant to the National Wildlife Refuge System Improvement Act of 1997 and in accordance with the National Environmental Policy Act of 1969. It describes how the refuge will be managed for the next 15 years. The compatibility determinations for fishing, environmental education and interpretation, wildlife observation, wildlife photography, research, mosquito control, interim citrus grove management, and commercial ecotour operations are also available within the plan.

ADDRESSES: A copy of the plan may be obtained by writing to the Pelican Island National Wildlife Refuge, 1339 20th Street, Vero Beach, Florida 32960. The plan may also be accessed and downloaded from the Service's Web site http://southeast.fws.gov/planning/.

SUPPLEMENTARY INFORMATION: Pelican Island National Wildlife Refuge in Indian River County, Florida, is adjacent to the city of Sebastian and along the east coast of Florida. The refuge is over 5,400 acres in size within an acquisition boundary of about 6,184 acres. Primarily comprised of lagoonal waters, the refuge includes aquatic, transitional, and upland habitats supporting a diversity of species, including 14 federally listed species. This complex ecological system also supports hundreds of species of birds, fish, plants, and mammals, as well as important bird rookeries, key fish spawning and settlement sites, and a globally important juvenile sea turtle nursery.

The availability of the Draft Comprehensive Conservation Plan and Environmental Assessment for a 60-day public review and comment period was announced in the Federal Register on July 27, 2005 (70 FR 43446). The plan and environmental assessment identified and evaluated three alternatives for managing the refuge over the next 15 years. Alternative A, the No Action Alternative, would have continued current management of the refuge. Alternative B would have minimally expanded certain refuge management programs. Alternative C, the Proposed Alternative, would have moderately expanded refuge management activities to a level more in keeping with the resources protected in the developed and developing landscapes that surround the refuge.

Based on the environmental assessment and the comments received, the Service adopted Alternative C as its Preferred Alternative. This alternative was considered to be the most effective for meeting the purposes of the refuge and the mission of the National Wildlife Refuge System. Further, Alternative C best pursues national, ecosystem, and refuge-specific goals.

FOR FURTHER INFORMATION CONTACT: Cheri Ehrhardt, Natural Resource Planner, telephone: 321/861-2368; fax: 321/861-1276; e-mail: PelicanIslandCCP@fws.gov; or address: Pelican Island NWR CCP, P.O. Box 6504, Titusville, Florida 32782-6504.

Authority: This notice is published under the authority of the National Wildlife Refuge System Improvement Act of 1997, Public Law 105-57.

Dated: April 10, 2006.
Cynthia K. Dohner,
Acting Regional Director.

Editorial note: This document was received at the Office of the Federal Register October 25, 2006.

[FR Doc. 06-8954 Filed 10-27-06; 8:45 am]

BILLING CODE 4310-55-M